ENVIRONMENTAL PROTECTION AGENCY

[Docket ID: EPA-HQ-OA-2015-0002; FRL 9935-72-OA]

Farm, Ranch, and Rural Communities Committee (FRRCC); Notice of Meeting

AGENCY: Environmental Protection Agency (EPA).

ACTION: Notice of meeting.

SUMMARY: Under the Federal Advisory Committee Act, Public Law 92-463, the Environmental Protection Agency (EPA) hereby provides notice of a meeting of the Farm, Ranch, and Rural Communities Committee (FRRCC). This meeting is open to the public. Members of the public are encouraged to provide comments relevant to the specific issues being considered by the FRRCC. For additional information about registering for public comment, please refer to the SUPPLEMENTARY INFORMATION section. Due to limited space, seating at the FRRCC meeting will be limited to a first-come, first-served basis.

DATES: The Farm, Ranch, and Rural Communities Committee will convene on Thursday, October 22, 2015, from 9:00 a.m. until 5:00 p.m. (Mountain Time).

One public comment period relevant to specific issues being considered by the FRRCC is schedule for Thursday, October 22, 2015, from 1:30 p.m. to 2:00 p.m. (Mountain Time). Members of the public who wish to participate during the public comment period are encouraged to pre-register by noon, (Eastern Standard Time), on Thursday, October 15, 2015.

ADDRESSES: The meeting will be held at the Colorado Department of Agriculture. The street address is 305 Interlocken Parkway, Broomfield, Colorado 80021. The meeting is open to the public with limited seating on a first-come, first-served basis.

FOR FURTHER INFORMATION CONTACT: Questions or correspondence concerning this meeting should be directed to Cheryl Woodward, US EPA, Office of the Administrator (MC1101A), 1200 Pennsylvania Avenue NW., Washington, DC 20460; via email at woodward.cheryl@epa.gov, or via telephone at 202-564-1274.

SUPPLEMENTARY INFORMATION: The FRRCC is a policy-oriented committee that provides policy advice, information, and recommendations to the EPA Administrator on a range of environmental issues and policies that are of importance to agriculture and rural communities.

The purpose of this meeting is to advance discussion of specific topics of unique relevance to agriculture such as exploring best practices to maintain soil health, the impact of soil health as it relates to air and water quality and the relationship between soil health and extreme weather events across the country, in such a way as to provide thoughtful advice and useful insights to the Agency as it crafts environmental policies and programs that affect and engage agriculture and rural communities. A copy of the meeting agenda will be posted at http://www2.epa.gov/faca/frrcc.

Public Comment: Individuals or groups making oral presentations during the public comment period will be limited to a total presentation time of five minutes. To accommodate large groups addressing the FRRCC, only one representative of an organization or group will be allowed to speak during the designated public comment period. Written comments received by noon, (Eastern Standard Time), October 15, 2015, will be included in the materials distributed to members of the FRRCC. Written comments received after that date and time will be provided to the FRRCC as time allows. Requests to make brief oral comments or provide written statements to the FRRCC should be sent to Cheryl Woodward at the contact information above.

Meeting Access: For information on access or services for individuals with disabilities, please contact Cheryl Woodward at 202-564-1274 or woodward.cheryl@epa.gov. To request special accommodations, please contact Cheryl Woodward, preferably at least four working days prior to the meeting, to allow sufficient time to process your request.

Dated: October 7, 2015.
Ron Carleton,
Counselor to the Administrator for Agricultural Policy.

[FR Doc. 2015-26140 Filed 10-13-15; 8:45 am]

BILLING CODE 6560-50-P